DEPARTMENT OF COMMERCE

Bureau of Industry and Security

Emerging Technology and Research Advisory Committee; Notice of Partially Closed Meeting

The Emerging Technology and Research Advisory Committee (ETRAC) will meet on July 20 and 21, 2017, 8:30 a.m. (Pacific Daylight Time), at the University of California, Berkeley, Toll Room, Alumni Hall, Berkeley, CA 94720. The Committee advises the Office of the Assistant Secretary for Export Administration on emerging technology and research activities, including those related to deemed exports.

Agenda

Thursday, July 20

Closed Session

Friday, July 21

Open Session

1. Welcome Remarks & Update of ETRAC activities.

• Status of Industry Sectors being reviewed by the ETRAC: Electronics & Graphene Circuits, Graphene metamaterials, Robotics and Big Data, Optoelectronics & Photonics, Additive Manufacturing, Advanced materials, Autonomous Technology, and Hypersonics.

2. Export Control Issues and Research Being Conducted at the University of California-Berkeley.

3. Update on Export Control Issues.

4. Presentation by Jeff Welser, Vice President-IBM & Director of the Almaden Research Laboratory, San Jose, CA.

• Current research on: Cognitive Computing, Quantum Computing, Nanobiotechnology, Carbon nanotubes, Computational materials science, Amorphous semiconductors, and Atomic storage.

5. Comments from the Public.

6. Review of current emerging technology issues.

• Report on Tech Connect Conference and U.S.-European Scientific Research Collaboration Matchmaking event.

Discussion of matters determined to be exempt from the provisions relating to public meetings found in 5 U.S.C., App. 2, 10(a)(1) and 10(a)(3).

The open sessions will be accessible via teleconference to 25 participants on a first come, first serve basis. To join the conference, submit inquiries to Ms. Yvette Springer at Yvette.Springer@bis.doc.gov no later than, July 13, 2017.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

The Assistant Secretary for Administration, with the concurrence of the delegate of the General Counsel, formally determined on February 22, 2017, pursuant to Section 10(d) of the Federal Advisory Committee Act, as amended, that the portion of the meeting dealing with matters of which would be likely to frustrate significant implementation of a proposed agency action as described in 5 U.S.C. 552b(c)(9)(B) shall be exempt from the provisions relating to public meetings found in 5 U.S.C., App. 2, 10(a)(1) and 10(a)(3). The remaining portions of the meeting will be open to the public.

For more information, call Yvette Springer at (202) 482-2813.

Yvette Springer,
Committee Liaison Officer.

[FR Doc. 2017-13872 Filed 6-30-17; 8:45 am]

BILLING CODE 3510-JT-P